Proclamation 11011 of February 16, 2026

President George Washington's Birthday, 2026

By the President of the United States of America

A Proclamation

Today, our Nation honors President George Washington, our foremost American hero, the face of the American Revolution, and a champion of American liberty. On President Washington's Birthday, particularly as we celebrate 250 glorious years of American independence, we pay tribute to the father of our country, and with immeasurable pride and gratitude, we salute his unwavering fidelity to law, liberty, and the common good. As we chart the course toward the next 250 years of our great American story, we commit to forging a future that emulates his grace, imitates his courage, and mirrors his unshakable devotion to the promise of freedom.

Born in the Virginia Colony in 1732, George Washington was first commissioned as a Lieutenant Colonel in 1754, fighting in the early stages of the French and Indian War before serving in the Virginia House of Burgesses, where he grew increasingly outspoken against the British Crown's reign of taxation and tyranny. He assembled a band of farmers, frontiersmen, blacksmiths, and merchants to create the Continental Army, eventually leading them to victory at Yorktown over the British Army and their Hessian allies.

Through every triumph and tribulation, he carried himself with unfailing dignity and resolve. When defeat seemed all but certain during Christmas of 1776, he rallied his men to cross the Delaware River and wrested victory at Trenton. When faced with insurmountable odds and threats of mutiny during the brutal winter at Valley Forge, he persevered and prevailed. When decades of war and public service left him weary and longing for solitude, he continued selflessly answering duty's call. When Europe descended into warfare, he courageously put our national interests and the cause of peace first. And when confronted with a violent uprising from rogue actors during the Whiskey Rebellion, he defended the rule of law and our Constitution with confidence and strength. Time and again, when any other man would have surrendered to despair, Washington pressed forward with unmatched determination.

Despite his desire to exit public life and enjoy the fruits of retirement, Washington presided over the Constitutional Convention at Independence Hall and was later unanimously elected as our first President in 1789—serving two terms before voluntarily relinquishing power and returning home to his beloved Mount Vernon, setting the precedent for the new Republic. Upon his retirement, King George III, once Washington's political foe, hailed him as “the greatest man of the age.” By the time of his death, he commanded the respect of the entire world.

Among President Washington's greatest legacies is his timeless insistence that, in order to be a great Nation, America must be a Nation that prays and gives thanks to our Creator. As he famously declared in his Farewell Address, “virtue or morality is a necessary spring of popular government,” and our faith in God is indispensable to our prosperity and strength.

Driven by his relentless tenacity until his very last breath, Washington was a champion of American sovereignty, a brilliant unifier and tactician, and a man of devout faith and incorruptible conscience—and his visionary leadership remains forever imprinted on the soul of our Nation.

Following President Washington's death in December of 1799, the great Henry Lee declared that Washington was “first in war, first in peace, and first in the hearts of his countrymen.” To this very day, he remains the first in our hearts and souls—and his courage and resolve remain the birthright of every American citizen. As we pay tribute to our first Commander in Chief and set our eyes toward our next 250 years of liberty, we pledge to build a future that honors his legacy, cherishes his wisdom, and restores America as one glorious Nation under God.

It is therefore fitting that as we celebrate what would have been his 294th birthday—and as we commemorate 250 years of American freedom and independence—we pause to offer our gratitude for President Washington's gallant life of public service.

NOW, THEREFORE, I, DONALD J. TRUMP, President of the United States of America, by virtue of the authority vested in me by the Constitution and the laws of the United States, do hereby proclaim February 16, 2026, as a reserved holiday commemorating President George Washington's Birthday.

IN WITNESS WHEREOF, I have hereunto set my hand this sixteenth day of February, in the year of our Lord two thousand twenty-six, and of the Independence of the United States of America the two hundred and fiftieth.

[FR Doc. 2026-03381

Filed 2-18-26; 11:15 am]

Billing code 3395-F4-P